NATIONAL SCIENCE FOUNDATION

Notice of Open to the Public Meetings of the Networking and Information Technology Research and Development (NITRD) Program

AGENCY: Networking and Information Technology Research and Development (NITRD) National Coordination Office (NCO), National Science Foundation.

ACTION: Notice of public meetings.

SUMMARY: The NITRD Program holds meetings that are open to the public to attend. The Joint Engineering Team (JET) and Middleware And Grid Interagency Coordination (MAGIC) Team provide an opportunity for the public to engage and participate in information sharing with Federal agencies. The JET and MAGIC Team report to the NITRD Large Scale Networking (LSN) Interagency Working Group (IWG).

DATES: March 2020-March 2021.

FOR FURTHER INFORMATION, CONTACT: Ms. Joyce Lee at joyce.lee@nitrd.gov or (202) 459-9674. Individuals who use a telecommunications device for the deaf (TDD) may call the Federal Information Relay Service (FIRS) at 1-800-877-8339 between 8 a.m. and 8 p.m., Eastern time, Monday through Friday.

SUPPLEMENTARY INFORMATION: The Joint Engineering Team (JET) established in 1997, provides a forum for participants with interests in high performance research networking and networking to support science applications.

The Middleware And Grid Interagency Coordination (MAGIC) Team, established in 2002, provides a forum for participants with interests and responsibility for middleware, cloud and grid computing services, standards, and implementation; best practices for resource architecture, access, and management; and security and privacy.

The JET and MAGIC Team meetings are hosted by the NITRD NCO with WebEx and/or teleconference participation available for each meeting.

Public Meetings website: The JET and MAGIC Team meetings are scheduled 30 days in advance of the meeting date. Please reference the NITRD Public Meetings web page (https://www.nitrd.gov/meetings/public/) for each Team's upcoming meeting dates and times, in addition to the agendas, minutes, and other information.

Public Meetings Mailing Lists: Members of the public may be added to the mailing lists by sending their full name and email address to jet-signup@nitrd.gov for the JET and magic-signup@nitrd.gov for the MAGIC Team, with the subject line: “Add to JET” or “Add to MAGIC,” respectively. Meeting notifications and information are shared via the mailing lists.

Public Comments: The government seeks individual input; participants may provide individual advice only. Members of the public are welcome to submit their comments for the JET to jet-comments@nitrd.gov and for the MAGIC Team to magic-comments@nitrd.gov. Please note that under the provisions of the Federal Advisory Committee Act (FACA), all public comments and/or presentations will be treated as public documents and may be made available to the public via the JET and MAGIC web pages.

Reference website: NITRD website at: http://www.nitrd.gov/.

Submitted by the National Science Foundation in support of the Networking and Information Technology Research and Development (NITRD) National Coordination Office (NCO) on February 14, 2020.

Suzanne H. Plimpton,
Reports Clearance Officer, National Science Foundation.

[FR Doc. 2020-03409 Filed 2-19-20; 8:45 am]

BILLING CODE 7555-01-P